DEPARTMENT OF COMMERCE

International Trade Administration

[A-570-803]

Heavy Forged Hand Tools from the People's Republic of China: Extension of Time Limit for Final Results of Antidumping Duty Administrative Review

AGENCY: Import Administration, International Trade Administration, Department of Commerce.

EFFECTIVE DATE: August 19, 2002.

FOR FURTHER INFORMATION CONTACT: Thomas Martin at (202) 482-3936, AD/CVD Enforcement, Office 4, Group II, Import Administration, International Trade Administration, U.S. Department of Commerce, 14th Street and Constitution Ave, NW, Washington, DC 20230.

SUPPLEMENTARY INFORMATION:

TIME LIMITS:

Background

On March 16, 2001, the Department published a notice of initiation of administrative reviews of the antidumping duty orders on heavy forged hand tools from the People's Republic of China, covering the period February 1, 2000 through January 31, 2001 (66 FR 16037). The preliminary results were published on March 6, 2002, and in those preliminary results we extended the time limit for the final results until no later than August 27, 2002, 174 days after the date of publication of the preliminary results.

Extension of Time Limit for Final Results of Review

Section 751(a)(3)(A) of the Tariff Act of 1930, as amended (the Act), requires the Department to complete its final results within 120 days after the date on which the preliminary results were published. However, the Department may extend the deadline for completion of an administrative review if it determines that it is not practicable to complete the review within the statutory time limit. Section 751(a)(3)(A) of the Act allows the Department to extend the deadline for completion of the final results to 180 days from the date of publication of the preliminary results. As a result of the complex issues involved, it is not practicable to complete these reviews by August 27, 2002, and we are extending the time limit to 180 days after the publication of the preliminary results. See Decision Memorandum from Holly Kuga to Bernard T. Carreau, dated concurrently with this notice, which is on file in the Central Records Unit, Room B-099 of the main Commerce building.

Dated: August 13, 2002.
Holly A. Kuga,
Acting Deputy Assistant Secretary Import Administration, Group II.

[FR Doc. 02-21013 Filed 8-16-02; 8:45 am]

BILLING CODE 3510-DS-S